NUCLEAR REGULATORY COMMISSION

[NRC-2011-0262]

Entergy Operations, Inc.; Notice of Receipt and Availability of Application for Renewal of Grand Gulf Nuclear Station, Unit 1; Facility Operating License No. NPF-29 for an Additional 20-Year Period

The U.S. Nuclear Regulatory Commission (NRC or Commission) has received an application, dated October 28, 2011, from Entergy Operations, Inc., filed pursuant to Section 103 of the Atomic Energy Act of 1954, as amended, and in Title 10 of the Code of Federal Regulations (10 CFR) part 54, to renew the operating license for Grand Gulf Nuclear Station, Unit 1 (GGNS). Renewal of the license would authorize the applicant to operate the facility for an additional 20-year period beyond the period specified in the current operating license. The current operating license for GGNS (NPF-29) expires on November 1, 2024. GGNS is a boiling water reactor designed by General Electric. The acceptability of the tendered application for docketing, and other matters including an opportunity to request a hearing, will be the subject of subsequent Federal Register notices.

Copies of the application are available to the public at the NRC's Public Document Room (PDR), located at One White Flint North, Room O1-F21, 11555 Rockville Pike, Rockville, Maryland 20852 or through the NRC's Agencywide Documents Access and Management System (ADAMS) Accession Number ML113080132. Publicly available documents created or received at the NRC are available online in the NRC Library at http://www.nrc.gov/reading-rm/adams.html. In addition, the application is available at http://www.nrc.gov/reactors/operating/licensing/renewal/applications.html. Persons who do not have access to the Internet or who encounter problems in accessing the documents located in ADAMS should contact the NRC's PDR reference staff at 1-(800) 397-4209 or at (301) 415-4737, or by email to pdr@nrc.gov.

A copy of the license renewal application for GGNS is also available to local residents near the site at the Harriette Person Memorial Library, 606 Main St., Port Gibson, MS 39150.

Dated at Rockville, Maryland this 9th day of November, 2011.
For the Nuclear Regulatory Commission.
Melanie A. Galloway,
Acting Director, Division of License Renewal, Office of Nuclear Reactor Regulation.

[FR Doc. 2011-29717 Filed 11-16-11; 8:45 am]

BILLING CODE 7590-01-P